DEPARTMENT OF TRANSPORTATION

Federal Aviation Administration

14 CFR Part 39

[Docket No. FAA-2005-22121; Directorate Identifier 2004-NM-128-AD; Amendment 39-14512; AD 2006-06-04]

RIN 2120-AA64

Airworthiness Directives; McDonnell Douglas Model DC-9-10, -20, -30, -40 and -50 Series Airplanes, and Model DC-9-81 (MD-81), and DC-9-82 (MD-82) Airplanes

AGENCY: Federal Aviation Administration (FAA), Department of Transportation (DOT).

ACTION: Final rule.

SUMMARY: The FAA is superseding an existing airworthiness directive (AD), which applies to certain McDonnell Douglas Model DC-9-10, -20, -30, -40 and -50 series airplanes, and Model DC-9-81 (MD-81), and DC-9-82 (MD-82) airplanes. That AD currently requires installing a water drain system for the slant pressure panels in the left and right wheel wells of the main landing gear (MLG). This new AD also requires inspecting the seal assemblies of the overwing emergency exit doors for defects and constant gap; replacing defective door seals; performing repetitive operational checks of the water drain system auto drain valve and corrective actions if necessary; and, for certain airplanes, modifying the insulation blankets on the slant pressure panels in the left and right MLG wheel wells. This AD results from reports of water runoff from the slant pressure panels in the left and right MLG wheel wells, which subsequently froze on the lateral control mixer and control cable assemblies. We are issuing this AD to prevent ice from forming on the lateral control mixer and control cable assemblies, which could reduce controllability of the airplane.

DATES: This AD becomes effective April 20, 2006.

The Director of the Federal Register approved the incorporation by reference of certain publications listed in the AD as of April 20, 2006.

On August 18, 1993 (58 FR 38511, July 19, 1993), the Director of the Federal Register approved the incorporation by reference of certain other publications listed in the AD.

ADDRESSES: You may examine the AD docket on the Internet at http://dms.dot.gov or in person at the Docket Management Facility, U.S. Department of Transportation, 400 Seventh Street SW., Nassif Building, room PL-401, Washington, DC.

Contact Boeing Commercial Airplanes, Long Beach Division, 3855 Lakewood Boulevard, Long Beach, California 90846, Attention: Data and Service Management, Dept. C1-L5A (D800-0024), for service information identified in this AD.

FOR FURTHER INFORMATION CONTACT: Wahib Mina, Aerospace Engineer, Airframe Branch, ANM-120L, FAA, Los Angeles Aircraft Certification Office, 3960 Paramount Boulevard, Lakewood, California 90712-4137; telephone (562) 627-5324; fax (562) 627-5210.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that supersedes AD 93-13-07, amendment 39-8620 (58 FR 38511, July 19, 1993). The existing AD applies to certain McDonnell Douglas Model DC-9-10, -20, -30, -40 and -50 series airplanes, Model DC-9-81 and DC-9-82 series airplanes, and Model C-9 (Military) airplanes. That NPRM was published in the Federal Register on August 18, 2005 (70 FR 48502). That NPRM proposed to continue to require installing a water drain system for the slant pressure panels in the left and right wheel wells of the main landing gear (MLG). That NPRM also proposed to require inspecting the seal assemblies of the overwing emergency exit doors for defects and constant gap; replacing defective door seals; performing repetitive operational checks of the water drain system auto drain valve and corrective actions if necessary; and, for certain airplanes, modifying the insulation blankets on the slant pressure panels in the left and right MLG wheel wells.

Comments

We provided the public the opportunity to participate in the development of this AD. We have considered the comments that have been received on the NPRM.

Request To Eliminate Need for Alternate Method of Compliance (AMOC)

One commenter requests that we eliminate the need to request an AMOC. The commenter states that certain freighter airplanes had the auto drain valve removed in accordance with an AMOC with AD 93-13-07, which makes it impossible to perform the inspection required by paragraph (i) of the NPRM. The commenter states that revising paragraph (i) to address only airplanes that have not had the auto drain valve removed as discussed here would eliminate any need to request an AMOC in accordance with paragraph (i) of the NPRM.

We partially agree with this request. It is possible that an airplane that has had the auto drain valve removed as described could have the auto drain valve re-installed at some point. Therefore, we have revised paragraph (i) of the AD to be applicable to “any airplane which is equipped with an auto drain valve of the slant pressure panel water drain system.”

Request To Provide Reference to Aircraft Maintenance Manual (AMM)

One commenter requests that we provide a reference of where to obtain instructions to accomplish the operational check of the auto drain valve system. The commenter states that paragraph (i) of the NPRM does not contain any details of where to find such instructions.

We agree with this request. Therefore, we have revised paragraph (i) of the AD to state that Chapter 51-10-01 of the Boeing MD-80 AMM or Chapter 51-00-01 of the Douglas DC-9 AMM is one approved method of performing the operational check and replacement of the auto drain valve.

Request To Revise Note 2

The same commenter requests that we revise Note 2 of the NPRM. The commenter states that paragraph (h) of the NPRM gives credit for inspections required by paragraph (g) of the AD that were performed before the effective date of the AD. The commenter believes that Note 2 should refer to paragraph (i) of the AD rather than paragraph (h) as Note 2 addresses documenting the repetitive inspections required by paragraph (i).

We agree with this request. Note 2 of the AD incorrectly referred to paragraph (h) of the AD, and we have revised Note 2 to refer to paragraph (i) of the AD as discussed.

Request To Eliminate Concurrent Service Bulletin

The same commenter requests that we reconsider paragraph (j) of the NPRM. The commenter states that the modification of the insulation blankets installed on the slant pressure panel and the general visual inspection specified in McDonnell Douglas Service Bulletin DC9-53-268, dated August 11, 1995 are mandated by paragraphs (a)(1) and (a)(2) of AD 96-11-04, amendment 39-9629 (61 FR 25557, May 22, 1996). The commenter asserts that these actions are also specified in McDonnell Douglas Service Bulletin DC9-53-268 R01, Revision 01, dated July 18, 1996, which is mandated for concurrent accomplishment by this AD. The commenter also asserts that Service Bulletin DC9-53-268 R01, Revision 01 states, “No additional work is required by this revision for aircraft modified by prior issue of this service bulletin.” We infer that the commenter believes that paragraph (j) is unnecessary and is requesting us to eliminate paragraph (j) from the AD.

We partially agree with this request. Though the requirements of paragraph (a)(1) of AD 96-11-04 apply to all airplanes identified in the original issue of Service Bulletin DC9-53-268, dated August 11, 1995, the requirements of paragraph (j) of this AD apply only to certain airplanes identified in Service Bulletin DC9-53-268 R01, Revision 01, that are also identified in Boeing Service Bulletin DC9-53-179, Revision 2, dated May 27, 2004. Airplanes already modified as specified in Service Bulletin DC9-53-268 (the appropriate source of service information for doing the requirements of paragraph (a)(1) of AD 96-11-04), are in compliance with paragraph (j) of this AD. However, to prevent any confusion, we have revised paragraph (j) to clarify that only certain airplanes are subject to the requirements of paragraph (j).

Request To Eliminate Inspection

The same commenter requests that we eliminate the one-time visual inspection of the overwing door seal assemblies proposed by paragraph (g) of the NPRM. The commenter states that this inspection is required by paragraph (a)(2) of AD 96-11-04, in accordance with McDonnell Douglas Service Bulletin DC9-53-268, dated August 11, 1995. The commenter also states that Service Bulletin DC9-53-268 and Service Bulletin DC9-53-179, Revision 2, both state that this inspection is to be accomplished in accordance with Chapter 52-21-00 of the Boeing MD-80 AMM or Chapter 52-21-0 of the Douglas DC-9 AMM, as applicable. The commenter believes that the inspection requirements of paragraph (g) were previously addressed by AD 96-11-04 and should not be repeated here.

We agree that both service bulletins refer to the same AMM chapter for performing the inspection required by paragraph (a)(2) of AD 96-11-04 and paragraph (g) of this AD. However, the inspection required by paragraph (g) of this AD is intended only for airplanes identified in the applicability of Service Bulletin DC9-53-179, Revision 2, and not for airplanes identified in the applicability of Service Bulletin DC9-53-268. In addition, even if certain airplanes should be identified in both service bulletins, paragraph (e) of this AD states “unless the actions have already been done.” This statement means that, if any visual inspection of any overwing door seal assembly has been performed before the effective date of this AD in accordance with either service bulletin or paragraph (a)(2) of AD 96-11-04, no further visual inspection of that assembly is required by this AD. However, we have revised paragraph (h) of this AD to state that inspections done in accordance with paragraph (a)(2) of AD 96-11-04 are acceptable for compliance with the corresponding actions of this AD.

Request To Supersede Additional AD

One commenter requests that we revise the NPRM to supersede AD 96-11-04 as well as AD 93-13-07. The commenter states that paragraphs (g) and (j) of this AD constitute the same inspections and modifications as those required by AD 96-11-04 to be accomplished in accordance with Service Bulletin DC9-53-268 or DC9-53-268 R01, Revision 01. The commenter asserts that those inspections should be considered acceptable for compliance with the inspections required by paragraphs (g) and (j) of this AD. The commenter further asserts that the AMOC approved according to AD 96-11-04 should be approved as an AMOC for this AD.

We partially agree with this request. As already discussed, the inspections required by paragraph (a)(2) of AD 96-11-04 and paragraph (g) of this AD refer to the same AMM chapter; therefore, we have given credit for inspections done in accordance with paragraph (a)(2) of AD 96-11-04. Further, as already discussed and as specified in paragraph (j) of this AD, airplanes which have been modified in accordance with Service Bulletin DC9-53-268 as required by paragraph (a)(1) of AD 96-11-04 require no additional modification. Therefore, we will not supersede AD 96-11-04. However, we agree that AMOCs approved according to AD 96-11-04 also are acceptable for compliance with the requirements of this AD. Therefore, we have revised paragraph (k)(2) of the NPRM to state that AMOCs previously approved according to AD 96-11-04 are approved as AMOCs for the corresponding requirements of this AD; and, due to clarification of the AMOC paragraph as discussed below, we have re-identified paragraph (k)(2) of the NPRM as paragraph (k)(3) of the AD.

Clarification of AMOC Paragraph

We have added new paragraph (k)(2) to this action to clarify the appropriate procedure for notifying the principal inspector before using any approved AMOC on any airplane to which the AMOC applies.

Conclusion

We have carefully reviewed the available data, including the comments that have been received, and determined that air safety and the public interest require adopting the AD with the changes described previously as well as certain minor editorial changes that do not affect the legal or technical content of the AD. We have determined that these changes will neither increase the economic burden on any operator nor increase the scope of the AD.

Costs of Compliance

There are about 2,025 airplanes of the affected design in the worldwide fleet. This AD affects about 1,131 airplanes of U.S. registry. The following table provides the estimated costs, using an average labor rate of $65 per hour, for U.S. operators to comply with this AD.

Estimated Costs
Action | Work hours | Parts | Cost per airplane | Fleet cost
Install water drain system (required by AD 93-13-07) | 8 | $613 | $1,133 | $1,281,423
Inspect overwing emergency exit door seal assemblies (new action) | 1 | N/A | 65 | 73,515
Modify insulation blankets of slant pressure panel (new action for certain airplanes only) | 8 | N/A | 520 | 588,120
Check auto drain valve of slant pressure panel water drain system (new action) | 1 | N/A | ¹65 | ¹73,515
¹ Per inspection cycle.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-8620 (58 FR 38511, July 19, 1993) and by adding the following new airworthiness directive (AD):

2006-06-04 McDonnell Douglas: Amendment 39-14512. Docket No. FAA-2005-22121; Directorate Identifier 2004-NM-128-AD.

Effective Date

(a) This AD becomes effective April 20, 2006.

Affected ADs

(b) This AD supersedes AD 93-13-07.

Applicability

(c) This AD applies to McDonnell Douglas Model DC-9-11, DC-9-12, DC-9-13, DC-9-14, DC-9-15, DC-9-15F, DC-9-21, DC-9-31, DC-9-32, DC-9-32 (VC-9C), DC-9-32F, DC-9-33F, DC-9-34, DC-9-34F, DC 9-32F (C-9A, C-9B), DC-9-41, DC-9-51, DC-9-81 (MD-81), and DC-9-82 (MD-82) airplanes; as identified in Boeing Service Bulletin DC9-53-179, Revision 2, dated May 27, 2004; certificated in any category.

Unsafe Condition

(d) This AD was prompted by reports of water runoff from the slant pressure panels in the left and right main landing gear (MLG) wheel wells, which subsequently froze on the lateral control mixer and control cable assemblies. We are issuing this AD to prevent ice from forming on the lateral control mixer and control cable assemblies, which could reduce controllability of the airplane.

Compliance

(e) You are responsible for having the actions required by this AD performed within the compliance times specified, unless the actions have already been done.

Restatement of Requirements of AD 93-13-07

Installation of Water Drain System

(f) Within 24 months after August 18, 1993 (the effective date of AD 93-13-07), install a water drain system in the slant pressure panel, in accordance with McDonnell Douglas DC-9 Service Bulletin 53-179, dated January 18, 1985, as amended by Service Bulletin Change Notification 53-179 CN1, dated February 28, 1985, and Service Bulletin Change Notification 53-179 CN2, dated May 30, 1985; McDonnell Douglas Service Bulletin DC9-53-179, Revision 01, dated March 30, 1999; or Boeing Service Bulletin DC9-53-179, Revision 2, dated May 27, 2004. After the effective date of this AD, only Boeing Service Bulletin DC9-53-179, Revision 2, dated May 27, 2004, may be used.

New Requirements of This AD

Inspection of Door Seal Assemblies

(g) For all airplanes: Within 24 months after the effective date of this AD, perform a general visual inspection of the seal assemblies of the overwing emergency exit doors for defects and constant gap, and, before further flight, replace any defective door seal with a new door seal; in accordance with the Accomplishment Instructions of Boeing Service Bulletin DC9-53-179, Revision 2, dated May 27, 2004.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Inspections Already Accomplished

(h) Inspections accomplished before the effective date of this AD in accordance with McDonnell Douglas Service Bulletin DC9-53-179, Revision 01, dated March 30, 1999; or McDonnell Douglas Service Bulletin DC9-53-268, dated August 11, 1995, as referenced in paragraph (a)(2) of AD 96-11-04; are considered acceptable for compliance with the requirements of paragraph (g) of this AD.

Operational Check of Drain Valve

(i) For any airplane which is equipped with an auto drain valve of the slant pressure panel water drain system: Within 24 months after the effective date of this AD, perform an operational check of the auto drain valve and repeat this check at intervals not to exceed 24 months. If any auto drain valve is found to be obstructed or inoperative, before further flight, replace the auto drain valve with a new auto drain valve according to a method approved by the Manager, Los Angeles Aircraft Certification Office (ACO), FAA. Chapter 51-10-01 of the Boeing MD-80 Aircraft Maintenance Manual (AMM) or Chapter 51-00-01 of the Douglas DC-9 AMM, as applicable, is one approved method of performing the operational check and replacement of the auto drain valve.

Note 2: After an operator complies with the requirements of paragraph (i) of this AD, paragraph (i) does not require that operators subsequently record accomplishment of those requirements each time an auto drain valve is checked or replaced according to that operator's FAA-approved maintenance inspection program.

Concurrent Service Bulletin for Certain Airplanes Only

(j) For airplanes identified in Boeing Service Bulletin DC9-53-179, Revision 2, dated May 27, 2004, that are also identified in McDonnell Douglas Service Bulletin DC9-53-268 R01, Revision 01, dated July 18, 1996: At the applicable compliance time specified in paragraph (j)(1) or (j)(2) of this AD, modify the insulation blankets on the slant pressure panels in the left and right wheel wells of the MLG, in accordance with Boeing Service Bulletin DC9-53-268 R01, Revision 01, dated July 18, 1996. Modifications accomplished before the effective date of this AD as specified in McDonnell Douglas Service Bulletin DC9-53-268, dated August 11, 1995, are acceptable for compliance with this paragraph.

(1) For airplanes that have been modified, as specified in paragraph (f) of this AD, prior to the effective date of this AD: Within 24 months after the effective date of this AD.

(2) For airplanes that have not been modified, as specified in paragraph (f) of this AD, prior to the effective date of this AD: Prior to or concurrently with the accomplishment of paragraph (f) of this AD.

Alternative Methods of Compliance (AMOCs)

(k)(1) The Manager, Los Angeles ACO, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

(3) AMOCs approved previously in accordance with AD 93-13-07 and AD 96-11-04 are approved as AMOCs for the corresponding requirements of this AD.

Material Incorporated by Reference

(l) You must use the service information listed in Table 1 of this AD, as applicable, to perform the actions that are required by this AD, unless the AD specifies otherwise.

Table 1.—Material Incorporated by Reference
Service information | Revision level | Date
Boeing Service Bulletin DC9-53-179 | 2 | May 27, 2004.
McDonnell Douglas DC-9 Service Bulletin 53-179 | Original | January 18, 1985.
McDonnell Douglas Service Bulletin DC9-53-179 | 01 | March 30, 1999.
McDonnell Douglas Service Bulletin DC9-53-268 R01 | 01 | July 18, 1996.
Service Bulletin Change Notification 53-179 CN1 for McDonnell Douglas DC-9 Service Bulletin 53-179, dated January 18, 1985 | Original | February 28, 1985.
Service Bulletin Change Notification 53-179 CN2 for McDonnell Douglas DC-9 Service Bulletin 53-179, dated January 18, 1985 | Original | May 30, 1985.

(1) The Director of the Federal Register approved the incorporation by reference of McDonnell Douglas Service Bulletin DC9-53-179, Revision 01, dated March 30, 1999; Boeing Service Bulletin DC9-53-179, Revision 2, dated May 27, 2004; and McDonnell Douglas Service Bulletin DC9-53-268 R01, Revision 01, dated July 18, 1996; in accordance with 5 U.S.C. 552(a) and 1 CFR part 51.

(2) On August 18, 1993 (58 FR 38511, July 19, 1993), the Director of the Federal Register approved the incorporation by reference of McDonnell Douglas DC-9 Service Bulletin 53-179, dated January 18, 1985; and Service Bulletin Change Notification 53-179 CN1, dated February 28, 1985, and Service Bulletin Change Notification 53-179 CN2, dated May 30, 1985, for McDonnell Douglas DC-9 Service Bulletin 53-179, dated January 18, 1985.

(3) Contact Boeing Commercial Airplanes, Long Beach Division, 3855 Lakewood Boulevard, Long Beach, California 90846, Attention: Data and Service Management, Dept. C1-L5A (D800-0024), for a copy of this service information. You may review copies at the Docket Management Facility, U.S. Department of Transportation, 400 Seventh Street SW., room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on March 3, 2006.
Kalene C. Yanamura,
Acting Manager, Transport Airplane Directorate, Aircraft Certification Service.

[FR Doc. 06-2409 Filed 3-15-06; 8:45 am]

BILLING CODE 4910-13-U